DEPARTMENT OF ENERGY

Federal Energy Regulatory Commission

Combined Notice of Filings #1

Take notice that the Commission received the following electric corporate filings:

Docket Numbers: EC15-96-000.

Applicants: Osprey Energy Center, LLC, Duke Energy Florida, Inc.

Description: Osprey Energy Center, LLC and Duke Energy Florida, Inc submit additional information concerning the 3/13/15 application.

Filed Date: 6/4/15.

Accession Number: 20150608-0019.

Comments Due: 5 p.m. ET 6/18/15.

Docket Numbers: EC15-154-000.

Applicants: 67RK 8me LLC.

Description: Application for Authorization Under Section 203 of the Federal Power Act, Request for Expedited Consideration and Confidential Treatment of 67RK 8me LLC.

Filed Date: 6/5/15.

Accession Number: 20150605-5239.

Comments Due: 5 p.m. ET 6/26/15.

Take notice that the Commission received the following exempt wholesale generator filings:

Docket Numbers: EG15-92-000.

Applicants: Panda Liberty LLC.

Description: Notice of Self-Certification of Exempt Wholesale Generator Status of Panda Liberty LLC.

Filed Date: 6/5/15.

Accession Number: 20150605-5131.

Comments Due: 5 p.m. ET 6/26/15.

Docket Numbers: EG15-93-000.

Applicants: Panda Patriot LLC.

Description: Notice of Self-Certification of Exempt Wholesale Generator Status of Panda Patriot LLC.

Filed Date: 6/5/15.

Accession Number: 20150605-5132.

Comments Due: 5 p.m. ET 6/26/15.

Docket Numbers: EG15-94-000.

Applicants: Panda Stonewall LLC.

Description: Notice of Self-Certification of Exempt Wholesale Generator Status of Panda Stonewall LLC.

Filed Date: 6/5/15.

Accession Number: 20150605-5136.

Comments Due: 5 p.m. ET 6/26/15.

Take notice that the Commission received the following electric rate filings:

Docket Numbers: ER10-2249-004.

Applicants: Portland General Electric Company.

Description: Supplement to February 13, 2015 Notice of Non-Material Change in Status of Portland General Electric Company.

Filed Date: 6/5/15

Accession Number: 20150605-5237

Comments Due: 5 p.m. ET 6/26/15.

Docket Numbers: ER13-80-006.

Applicants: Tampa Electric Company.

Description: Compliance filing per 35: OATT Order No. 1000 Amendment of 2014-2015 Compliance Filings to be effective 1/1/2015.

Filed Date: 6/8/15.

Accession Number: 20150608-5080.

Comments Due: 5 p.m. ET 6/29/15.

Docket Numbers: ER13-86-006.

Applicants: Duke Energy Florida, Inc., Duke Energy Carolinas, LLC.

Description: Compliance filing per 35: FRCC Fourth Order No. 1000 Compliance Filing to be effective 1/1/2015.

Filed Date: 6/8/15.

Accession Number: 20150608-5076.

Comments Due: 5 p.m. ET 6/29/15.

Docket Numbers: ER15-1210-001

Applicants: Midcontinent Independent System Operator, Inc.

Description: Compliance filing per 35: 2015-06-08_Hoosier-SIPC RTO Adder Compliance to be effective 5/10/2015.

Filed Date: 6/8/15.

Accession Number: 20150608-5152.

Comments Due: 5 p.m. ET 6/29/15.

Docket Numbers: ER15-1386-000.

Applicants: Arizona Public Service Company.

Description: eTariff filing per 35.19a(b): Service Agreement No. 343 Refund Report to be effective N/A.

Filed Date: 6/5/15.

Accession Number: 20150605-5121.

Comments Due: 5 p.m. ET 6/26/15.

Docket Numbers: ER15-1877-000.

Applicants: Midcontinent Independent System Operator, Inc.

Description: § 205(d) rate filing per 35.13(a)(2)(iii): 2015-06-05_Consumers Schedules 7, 8, 9 & 26, Att WW to be effective 10/1/2015.

Filed Date: 6/5/15.

Accession Number: 20150605-5168.

Comments Due: 5 p.m. ET 6/26/15.

Docket Numbers: ER15-1878-000

Applicants: Champion Energy Marketing LLC.

Description: § 205(d) rate filing per 35.13(a)(2)(iii): Seller Category Change to be effective 6/6/2015.

Filed Date: 6/5/15.

Accession Number: 20150605-5173.

Comments Due: 5 p.m. ET 6/26/15.

Docket Numbers: ER15-1879-000.

Applicants: Champion Energy Services, LLC.

Description: § 205(d) rate filing per 35.13(a)(2)(iii): Seller Category Change to be effective 6/6/2015.

Filed Date: 6/5/15.

Accession Number: 20150605-5175.

Comments Due: 5 p.m. ET 6/26/15.

Docket Numbers: ER15-1880-000.

Applicants: Champion Energy, LLC.

Description: § 205(d) rate filing per 35.13(a)(2)(iii): Seller Category Change to be effective 6/6/2015.

Filed Date: 6/5/15.

Accession Number: 20150605-5176.

Comments Due: 5 p.m. ET 6/26/15.

Docket Numbers: ER15-1881-000.

Applicants: Talen Energy Marketing, LLC.

Description: Compliance filing per 35: Notice of Succession to Reactive Power Tariff to be effective 6/5/2015.

Filed Date: 6/5/15.

Accession Number: 20150605-5177.

Comments Due: 5 p.m. ET 6/26/15.

Docket Numbers: ER15-1882-000.

Applicants: PSEG Energy Resources & Trade LLC.

Description: § 205(d) rate filing per 35.13(a)(2)(ii): Revised Reactive Tariff to be effective 6/5/2015.

Filed Date: 6/5/15.

Accession Number: 20150605-5178.

Comments Due: 5 p.m. ET 6/26/15.

Docket Numbers: ER15-1883-000.

Applicants: Adelanto Solar, LLC.

Description: Baseline eTariff Filing per 35.1: Adelanto Solar, LLC Application for Market-Based Rates to be effective 8/5/2015.

Filed Date: 6/5/15.

Accession Number: 20150605-5179.

Comments Due: 5 p.m. ET 6/26/15.

Docket Numbers: ER15-1884-000.

Applicants: EDF Energy Services, LLC.

Description: § 205(d) rate filing per 35.13(a)(2)(iii): normal filing 2015 to be effective 6/8/2015.

Filed Date: 6/5/15.

Accession Number: 20150605-5180.

Comments Due: 5 p.m. ET 6/26/15.

Docket Numbers: ER15-1885-000.

Applicants: EDF Trading North America, LLC.

Description: § 205(d) rate filing per 35.13(a)(2)(iii): normal filing 2015 to be effective 6/8/2015.

Filed Date: 6/8/15.

Accession Number: 20150608-5001.

Comments Due: 5 p.m. ET 6/29/15.

Docket Numbers: ER15-1886-000.

Applicants: EDF Industrial Power Services (CA), LLC.

Description: § 205(d) rate filing per 35.13(a)(2)(iii): normal filing 2015 to be effective 6/8/2015.

Filed Date: 6/8/15.

Accession Number: 20150608-5002.

Comments Due: 5 p.m. ET 6/29/15.

Docket Numbers: ER15-1887-000.

Applicants: EDF Industrial Power Services (IL), LLC.

Description: § 205(d) rate filing per 35.13(a)(2)(iii): normal filing 2015 to be effective 6/8/2015.

Filed Date: 6/8/15.

Accession Number: 20150608-5003.

Comments Due: 5 p.m. ET 6/29/15.

Docket Numbers: ER15-1888-000.

Applicants: EDF Industrial Power Services (NY), LLC.

Description: § 205(d) rate filing per 35.13(a)(2)(iii): normal filing 2015 to be effective 6/8/2015.

Filed Date: 6/8/15.

Accession Number: 20150608-5004.

Comments Due: 5 p.m. ET 6/29/15.

Docket Numbers: ER15-1889-000.

Applicants: EDF Industrial Power Services (OH), LLC.

Description: § 205(d) rate filing per 35.13(a)(2)(iii): normal filing 2015 to be effective 6/8/2015.

Filed Date: 6/8/15.

Accession Number: 20150608-5005.

Comments Due: 5 p.m. ET 6/29/15.

Docket Numbers: ER15-1890-000.

Applicants: Midcontinent Independent System Operator, Inc.

Description: § 205(d) rate filing per 35.13(a)(2)(iii): 2015-06-05_MISO-PJM JOA 35% Filing to be effective 8/4/2015.

Filed Date: 6/5/15.

Accession Number: 20150605-5242.

Comments Due: 5 p.m. ET 6/26/15.

Docket Numbers: ER15-1891-000.

Applicants: Southwest Power Pool, Inc.

Description: § 205(d) rate filing per 35.13(a)(2)(iii): 1067R4 East Texas Electric Cooperative NITSA and NOA to be effective 6/1/2015.

Filed Date: 6/5/15.

Accession Number: 20150605-5243.

Comments Due: 5 p.m. ET 6/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2015.
Nathaniel J. Davis, Sr.,
Deputy Secretary.

[FR Doc. 2015-14390 Filed 6-11-15; 8:45 am]

BILLING CODE 6717-01-P